DEPARTMENT OF HEALTH AND HUMAN SERVICES

National Advisory Committee on Children and Disasters

AGENCY: Office of the Assistant Secretary for Preparedness and Response (ASPR), Department of Health and Human Services (HHS).

ACTION: Notice.

SUMMARY: The National Advisory Committee on Children and Disasters (NACCD or the Committee) is required by section 2811A of the PHS Act as amended by the Pandemic and All Hazards Preparedness and Advancing Innovation Act (PAHPAIA) and governed by the provisions of the Federal Advisory Committee Act (FACA). The NACCD shall evaluate issues and programs and provide findings, advice, and recommendations to the Secretary of HHS to support and enhance all-hazards public health and medical preparedness, response, and recovery aimed at meeting the unique needs of children and their families across the entire spectrum of their wellbeing. The Secretary of HHS has formally delegated authority to operate the NACCD to ASPR.

DATES: The NACCD will conduct an inaugural public meeting (virtual) on February 17, 2022. The new advisory committee will be sworn in along with the presentation and discussion of challenges, opportunities, and priorities for national public health and medical preparedness, response and recovery, specific to the needs of children and their families in disasters. A more detailed agenda and meeting registration link will be available on the NACCD meeting website https://www.phe.gov/Preparedness/legal/boards/naccd/Pages/default.aspx.

ADDRESSES: Members of the public may attend the meeting via a toll-free phone number or Zoom teleconference, which requires pre-registration. The meeting link to pre-register will be posted on https://www.phe.gov/Preparedness/legal/boards/naccd/Pages/default.aspx. Members of the public may provide written comments or submit questions for consideration by the NACCD at any time via email to NACCD@hhs.gov. Members of the public are also encouraged to provide comments after the meeting.

FOR FURTHER INFORMATION CONTACT: Zhoowan Jackson, NACCD Designated Federal Officer, Office of the Assistant Secretary for Preparedness and Response (ASPR), Department of Health and Human Services (HHS), Washington, DC; 202-205-4217, NACCD@hhs.gov.

SUPPLEMENTARY INFORMATION: The NACCD invites those who are involved in or represent a relevant industry, academia, health profession, health care consumer organization, or state, Tribal, territorial or local government to request up to four minutes to address the committee in person via Zoom. Requests to provide remarks to the NACCD during the public meeting must be sent to NACCD@hhs.gov at least 15 days prior to the meeting along with a brief description of the topic. We would specifically like to request inputs from the public on challenges, opportunities, and strategic priorities for national public health and medical preparedness, response and recovery specific to the needs of children and their families in disasters. Presenters who are selected for the public meeting will have audio only for up to four minutes during the meeting. Slides, documents, and other presentation material sent along with the request to speak will be provided to the committee members separately. Please indicate additionally whether the presenter will be willing to take questions from the committee members (at their discretion) immediately following their presentation (for up to four additional minutes).

Dawn O'Connell,
Assistant Secretary for Preparedness and Response.

[FR Doc. 2022-01161 Filed 1-20-22; 8:45 am]

BILLING CODE 4150-37-P